FEDERAL COMMUNICATIONS COMMISSION

Notice of Public Information Collection(s) Being Submitted for Review and Approval to the Office of Management and Budget (OMB), Comments Requested

July 1, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before August 9, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Judith B. Herman, Office of Managing Director, (202) 418-0214. For additional information or copies of the information collection(s), contact Judith B. Herman, OMD, 202-418-0214 or email judith-b.herman@fcc.gov.

SUPPLEMENTARY INFORMATION: OMB Control Number: 3060-1136.

Title: Spectrum Dashboard Customer Feedback.

Form Number: N/A.

Type of Review: Extension of a currently approved collection.

Respondents: Individuals or households, business or other for-profit, not-for-profit institutions, Federal Government, and state, local or tribal government.

Number of Respondents and Responses: 300 respondents; 300 responses.

Estimated Time per Response: .05 hours.

Frequency of Response: On occasion reporting requirement.

Obligation to Respond: Voluntary. There is no statutory authority for this information collection.

Total Annual Burden: 15 hours.

Total Annual Cost: N/A.

Privacy Act Impact Assessment: Yes. The Commission has a Privacy Policy that covers those who access the FCC's web pages, at: <http://www.fcc.gov/fccprivacypolicy.html>. There is also a system of records, FCC/OMD-20, “Inter-office and Remote Access Internet E-mail Systems,” which was published in the Federal Register on April 5, 2006 (65 FR 17234, 17265) and a Privacy Impact Assessment at: <http://www.fcc.gov/omd/privacyact/System_of_recors/pia-email.pdf> to cover the collection of IP addresses of those who access FCC web pages.

Nature and Extent of Confidentiality: No personally identifiable information will be obtained as part of this information collection, except the collection of IP addresses when an individual or other entity accesses the FCC's web pages.

Needs and Uses: The Commission sought and obtained emergency OMB approval for this information collection in March 2010. Emergency OMB approvals are only granted for six months. This collection is due to expire in September 2010. Therefore, the Commission is now ready to submit this collection for the regular OMB clearance. The Commission is requesting an extension (no change in the reporting requirement). The Commission has reduced the total annual burden for this collection by 1,085 hours due to 21,700 fewer respondents.

As part of the Commission's Broadband Plan, the FCC has created the Spectrum Dashboard, a database of the frequency bands from 225 MHz - 3.7 GHz available for non-federal uses, including for broadband deployment across the nation. The Spectrum Dashboard also makes information transparent and readily available to interested stakeholders (e.g., service providers, manufacturers, innovators, investors, etc.) to better enable them to gain access to spectrum and to help them assist the Commission in our spectrum policy decisions. The increased accessibility to spectrum and licensing information made possible by the Spectrum Dashboard is particularly valuable at this time as multiple stakeholders search for ways to participate in the deployment of wireless broadband throughout the nation.

The purpose of this collection is to enable individuals and others to voluntarily provide feedback on their experience with the Spectrum Dashboard. This collection will provide the Commission with unique data on how stakeholders are using the Spectrum Dashboard database and what improvements or enhancements they would like to see in future versions of the Spectrum Dashboard.

Federal Communications Commission.
Marlene H. Dortch,
Secretary,
Office of the Secretary,
Office of Managing Director.

[FR Doc. 2010-16583 Filed 7-7-10; 8:45 am]

BILLING CODE 6712-01-S